DEPARTMENT OF AGRICULTURE

Animal and Plant Health Inspection Service

[Docket No. APHIS-2010-0100]

Environmental Impact Statement; Proposed Cattle Fever Tick Control Barrier in South Texas

AGENCY: Animal and Plant Health Inspection Service, USDA.

ACTION: Notice of intent to prepare an environmental impact statement and hold public meetings.

SUMMARY: We are advising the public that the Animal and Plant Health Inspection Service plans to prepare an environmental impact statement to analyze the effects of installing a tick control barrier using game fencing to keep cattle fever ticks and southern cattle ticks out of tick-free areas beyond the permanent quarantine zone in South Texas. This notice identifies potential issues and alternatives that will be studied in the environmental impact statement, requests public comments to further delineate the scope of the alternatives and environmental impacts and issues, and provides notice of public meetings.

DATES: We will consider all comments that we receive on or before March 17, 2011. We will also consider comments made at public meetings to be held on March 7, 8, 9, and 10, 2011.

ADDRESSES: The public meetings will be held in Rio Grande City, TX, Zapata, TX, Laredo, TX, and Eagle Pass, TX (see the SUPPLEMENTARY INFORMATION section of this notice for the address of each meeting site). You may submit comments regarding the environmental impact statement by either of the following methods:

• Federal eRulemaking Portal: Go to http://www.regulations.gov/fdmspublic/component/main?main=DocketDetail&d=APHIS-2010-0100 to submit or view public comments and to view supporting and related materials available electronically.

• Postal Mail/Commercial Delivery: Please send one copy of your comment to Docket No. APHIS-2010-0100, Regulatory Analysis and Development, PPD, APHIS, Station 3A-03.8, 4700 River Road Unit 118, Riverdale, MD 20737-1238. Please state that your comment refers to Docket No. APHIS-2010-0100.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: For questions related to the Cattle Fever Tick Eradication Program, contact Dr. Matthew T. Messenger, Staff Entomologist, Cattle Fever Tick Eradication Program Manager, Ruminant Health Programs, VS, APHIS, 4700 River Road Unit 43, Riverdale, MD 20737; (301) 734-0647. For questions related to the environmental impact statement, contact Ms. Vicki Gutierrez, Environmental Protection Specialist, Environmental and Risk Analysis Services, PPD, APHIS, 4700 River Road Unit 149, Riverdale, MD 20737; (301) 734-4883.

SUPPLEMENTARY INFORMATION:

Background

The Cattle Fever Tick Eradication Program is a cooperative effort between the Animal and Plant Health Inspection Service (APHIS) of the U.S. Department of Agriculture and the Texas Animal Health Commission. The program was established to eliminate bovine babesiosis, a severe and often fatal cattle disease, from the U.S. cattle population. Cattle fever ticks and southern cattle ticks (collectively referred to as “fever ticks”) carry protozoan parasites that cause babesiosis. The disease and the fever ticks were officially eradicated from the continental United States in 1943, with the exception of a permanent quarantine zone extending over 500 miles along the Rio Grande from Del Rio, TX, to the Gulf of Mexico.

Current efforts to control fever ticks along the permanent quarantine zone include horseback patrols, a segmented barrier consisting of game fencing, and treatments applied to cattle and deer to keep out ticks carried by stray or smuggled livestock or wildlife. However, an increasing number of fever tick outbreaks have occurred outside the permanent quarantine zone in three of the eight Texas counties through which the zone passes: Maverick, Zapata, and Starr. The increase in outbreaks is attributed to numerous factors, including the free movement of deer and stray livestock carrying ticks across the U.S.-Mexico border and an increase in the overall deer population.

APHIS has determined that the installation of additional game fencing in the permanent quarantine zone would effectively stop the spread of cattle fever ticks by severely limiting or eliminating the movement of wildlife and stray livestock from the quarantine zone into locations where domestic livestock are maintained free of fever ticks.

Under the provisions of the National Environmental Policy Act of 1969 (NEPA), as amended (42 U.S.C. 4321 et seq.), Federal agencies must examine the potential environmental effects of proposed Federal actions and alternatives. We are planning to prepare an environmental impact statement (EIS) to analyze the effects of installing a tick control barrier using game fencing to keep fever ticks out of tick-free areas beyond the permanent quarantine zone we have established in South Texas. We are requesting public comment to help us identify or confirm potential alternatives and environmental issues that should be examined in the EIS, as well as comments that identify other issues that should be examined in the EIS.

The EIS will be prepared in accordance with: (1) NEPA, (2) regulations of the Council on Environmental Quality for implementing the procedural provisions of NEPA (40 CFR parts 1500-1508), (3) USDA regulations implementing NEPA (7 CFR part 1b), and (4) APHIS' NEPA Implementing Procedures (7 CFR part 372).

We have identified one alternative and the proposed action for further examination in the EIS:

Take no action. Under this alternative, APHIS would provide no funding toward the installation of game fencing to close gaps existing in game-fenced areas in Maverick County, or in rural areas of Zapata and Starr Counties, TX, to prevent the spread of fever ticks via the free movement of white-tailed deer and other tick hosts into the permanent quarantine zone. This alternative represents the baseline against which a proposed action may be compared and involves no changes to the current situation.

Provide funding toward the installation of a tick barrier utilizing game fencing in rural areas of Maverick, Zapata, and Starr Counties, TX. The proposed action involves APHIS providing funding toward the installation of game fencing on privately owned lands, with landowner consent and cost-share agreement, in rural areas of Maverick, Zapata, and Starr Counties, TX.

We have identified the following potential environmental impacts or issues for further examination in the EIS:

• Effects on wildlife, including consideration of migratory bird species and changes in native wildlife habitat and populations.

• Effects on federally listed threatened and endangered species, including ocelots, Gulf Coast jaguarundis, and plant species.

• Effects on soil, vegetation, and water from the installation of game fencing.

• Effects on local residents, including impacts on daily activities.

• Effects on human health and safety in the proposed tick barrier locations during and after the installation of game fencing.

• Effects on cultural and historic resources that may not have yet been identified through professional surveys.

We welcome comments on the proposed action and on other alternatives and environmental impacts or issues that should be considered for further examination in the EIS.

Public Meetings

We are advising the public that we are hosting four public meetings. The public meetings will be held as follows:

• March 7, 2011, at the Holiday Inn, 5274 East Highway 83 and Blanco Road, Rio Grande City, TX 78582, from 10 a.m. to noon.

• March 8, 2011, at the Zapata Community Center, 607 North U.S. Highway 83, Zapata, TX 78076, from 10 a.m. to noon.

• March 9, 2011, at the Laredo Civic Center, 2400 San Bernardo Avenue, Laredo, TX 78040, from 9 a.m. to noon.

• March 10, 2011, at the Hampton Inn, 3301 East Main Street, Eagle Pass, TX 78852, from 10 a.m. to noon.

These open-house style meetings are intended to allow for an exchange of information about the proposed action and the EIS process and to receive public comments. No advance registration is required to attend the meetings. Interested parties may provide oral or written comments on the scope of the EIS at the meetings. Persons who wish to provide oral comments at a meeting will be asked to register with their names and organizations to establish a record for the meeting. Registration for providing oral comments will begin 30 minutes prior to the opening of each meeting. Oral comments will be taken by an English/Spanish bilingual transcriber in the order of registration at each meeting. The presiding officer may limit the time for each speaker so that all interested persons appearing at each meeting have an opportunity to participate. We ask that anyone who reads a statement provide two copies to the presiding officer of the meeting. Written comments may also be submitted electronically or by postal mail as described in the ADDRESSES section of this notice.

All comments on this notice will be carefully considered in developing the final scope of the EIS. Upon completion of the draft EIS, a notice announcing its availability and an invitation to comment on it will be published in the Federal Register. The notice of availability will also be published in local newspapers in English and Spanish.

Done in Washington, DC, this 9th day of February 2011.
Kevin Shea,
Acting Administrator, Animal and Plant Health Inspection Service.

[FR Doc. 2011-3364 Filed 2-14-11; 8:45 am]

BILLING CODE 3410-34-P